DEPARTMENT OF COMMERCE

International Trade Administration

[A-570-894]

Certain Tissue Paper Products From the People's Republic of China: Affirmative Preliminary Determination of Circumvention of the Antidumping Duty Order

AGENCY: Import Administration, International Trade Administration, Department of Commerce.

Preliminary Determination

We preliminarily determine that certain tissue paper products (tissue paper) processed by A.R. Printing and Packaging India Pvt. Ltd. (ARPP) in India, and exported to the United States, are circumventing the antidumping duty order on tissue paper from the People's Republic of China (PRC,¹ as provided in section 781(b) of the Tariff Act of 1930, as amended (the Act).

¹ See Notice of Amended Final Determination of Sales at Less than Fair Value and Antidumping Duty Order: Certain Tissue Paper Products from the People's Republic of China, 70 FR 16223 (March 30, 2005) (PRC Tissue Paper Order).

DATES: Effective Date: March 6, 2013.

FOR FURTHER INFORMATION CONTACT: Brian Smith or Gemal Brangman, AD/CVD Operations, Office 2, Import Administration, International Trade Administration, U.S. Department of Commerce, 14th Street and Constitution Avenue NW., Washington, DC 20230; telephone: (202) 482-1766 or (202) 482-3773, respectively.

SUPPLEMENTARY INFORMATION:

Scope of the Antidumping Duty Order

The tissue paper products subject to this order are cut-to-length sheets of tissue paper having a basis weight not exceeding 29 grams per square meter.² The merchandise subject to this order does not have specific classification numbers assigned to them under the Harmonized Tariff Schedule of the United States (HTS). Subject merchandise may be under one or more of several different subheadings, including: 4802.30; 4802.54; 4802.61; 4802.62; 4802.69; 4804.31.1000; 4804.31.2000; 4804.31.4020; 4804.31.4040; 4804.31.6000; 4804.39; 4805.91.1090; 4805.91.5000; 4805.91.7000; 4806.40; 4808.30; 4808.90; 4811.90; 4823.90; 4820.50.00; 4802.90.00; 4805.91.90; 9505.90.40. The tariff classifications are provided for convenience and customs purposes; however, the written description of the scope of this order is dispositive.³

² See memorandum entitled “Preliminary Determination Decision Memorandum for the Anti-Circumvention Inquiry on Certain Tissue Paper Products from the People's Republic of China Involving AR Printing & Packaging India Pvt. Ltd.” (Preliminary Decision Memorandum) issued concurrently with this notice for a complete description of the scope of the PRC Tissue Paper Order.

³ See PRC Tissue Paper Order.

Scope of the Anti-Circumvention Inquiry

The products covered by this inquiry are tissue paper products, as described above in the “Scope of the Antidumping Duty Order” section, which are produced in India from PRC-origin jumbo rolls and/or cut sheets of tissue paper, and exported from India to the United States. This inquiry only covers such PRC-origin products that are processed in India and exported to the United States by ARPP.

Methodology

The Department has conducted this preliminary determination of circumvention in accordance with section 781(b) of the Tariff Act of 1930, as amended (“the Act”), and 19 CFR 351.225(h). For a full description of the methodology underlying our conclusions, please see the Preliminary Decision Memorandum. The Preliminary Decision Memorandum can be accessed directly on the internet at http://www.trade.gov/ia/ and is on file electronically via Import Administration's Antidumping and Countervailing Duty Centralized Electronic Service System (IA ACCESS). IA ACCESS is available to registered users at http://iaaccess.trade.gov and in the Central Records Unit, room 7046 of the main Department of Commerce building. The signed Preliminary Decision Memorandum and the electronic version of the Preliminary Decision Memorandum are identical in content.

Preliminary Findings

As detailed in the Preliminary Decision Memorandum, we preliminarily determine that tissue paper processed by ARPP in India from PRC-origin jumbo rolls of tissue paper and exported to the United States is circumventing the PRC Tissue Paper Order. We therefore determine that it is appropriate to include this merchandise within the PRC Tissue Paper Order and to instruct U.S. Customs and Border Protection (CBP) to suspend any entries of tissue paper products produced by ARPP from PRC-origin tissue paper.

Suspension of Liquidation

In accordance with 19 CFR 351.225(l)(2), the Department will direct CBP to suspend liquidation and to require a cash deposit of estimated duties, at the rate applicable to the exporter, on all unliquidated entries of tissue paper produced by ARPP from PRC-origin tissue paper that were entered, or withdrawn from warehouse, for consumption on or after May 3, 2012, the date of initiation of the anti-circumvention inquiry.

Notification to the International Trade Commission

The Department, consistent with section 781(e) of the Act and 19 CFR 351.225(f)(7)(i)(B), has notified the International Trade Commission (ITC) of this preliminary determination to include the merchandise subject to this inquiry within the PRC Tissue Paper Order. Pursuant to section 781(e) of the Act, the ITC may request consultations concerning the Department's proposed inclusion of the subject merchandise. If, after consultations, the ITC believes that a significant injury issue is presented by the proposed exclusion, it will have 15 days to provide written advice to the Department.

Public Comment

Case briefs from interested parties may be submitted no later than 30 days from the date of publication of this notice. A list of authorities used and an executive summary of issues should accompany any briefs submitted to the Department. See 19 CFR 351.309(c). This summary should be limited to five pages total, including footnotes. Rebuttal briefs limited to issues raised in the case briefs may be filed no later than 35 days after the date of publication of this notice.⁴

⁴ See 19 CFR 351.309(d).

Interested parties, who wish to request a hearing, or to participate if one is requested, must submit a written request to the Assistant Secretary for Import Administration, U.S. Department of Commerce, filed electronically using IA ACCESS. An electronically filed document must be received successfully in its entirety by the Department's electronic records system, IA ACCESS, by 5 p.m. Eastern Standard Time within 30 days after the date of publication of this notice.⁵ Requests should contain the party's name, address, and telephone number, the number of participants, and a list of the issues to be discussed. If a request for a hearing is made, we will inform parties of the scheduled date for the hearing which will be held at the U.S. Department of Commerce, 14th Street and Constitution Avenue NW., Washington, DC 20230, at a time and location to be determined.⁶ At the hearing, each party may make an affirmative presentation only on issues raised in that party's case brief and may make rebuttal presentations only on arguments included in that party's rebuttal brief. We intend to hold a hearing, if requested, no later than 40 days after the date of publication of this notice.

⁵ See 19 CFR 351.310(c).

⁶ See 19 CFR 351.310.

Final Determination

The final determination with respect to this anti-circumvention inquiry, including the results of the Department's analysis of any written comments, will be issued no later than June 27, 2013, unless extended.

This preliminary affirmative circumvention determination is published in accordance with section 781(b) of the Act and 19 CFR 351.225.

Dated: February 27, 2013.
Paul Piquado,
Assistant Secretary for Import Administration.

[FR Doc. 2013-05204 Filed 3-5-13; 8:45 am]

BILLING CODE 3510-DS-P